DEPARTMENT OF COMMERCE

National Oceanic and Atmospheric Administration

[I.D. 020907C]

Marine Mammals; Scientific Research Permit Applications

AGENCY: National Marine Fisheries Service (NMFS), National Oceanic and Atmospheric Administration (NOAA), Commerce.

ACTION: Notice; receipt of applications.

SUMMARY: Notice is hereby given that: seven applications have been received for permits to conduct research on free-ranging threatened and endangered Steller sea lions (Eumetopias jubatus) in California, Washington, Oregon, and Alaska; five applications have been received for permits to conduct research on free-ranging northern fur seals (Callorhinus ursinus) in Alaska; and one application has been received for an amendment to a permit for activities with captive Steller sea lions in Alaska.

DATES: Written, telefaxed, or e-mail comments must be received on or before April 2, 2007.

ADDRESSES: The applications and related documents are available for review upon written request or by appointment in the following office(s): See SUPPLEMENTARY INFORMATION.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request(s) would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include the appropriate File Number(s) in the subject line of the e-mail comment as a document identifier.

FOR FURTHER INFORMATION CONTACT: Tammy Adams, Amy Sloan, Kate Swails, or Jaclyn Daly, (301)713-2289.

SUPPLEMENTARY INFORMATION: The subject permits for research on Steller sea lions are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226). The subject permits for research on northern fur seals are requested under the authority of the Marine Mammal Protection Act of 1972, as amended (MMPA; 16 U.S.C. 1361 et seq.), the regulations governing the taking and importing of marine mammals (50 CFR part 216), and the Fur Seal Act of 1966, as amended (16 U.S.C. 1151 et seq.).

File No. 782-1889: The National Marine Mammal Laboratory (NMML), NMFS, Seattle, Washington, requests a 5-year permit to measure Steller sea lion population status, vital rates, foraging behavior, and condition in North Pacific Ocean areas including California, Washington, Oregon, and Alaska. Annually in the western Distinct Population Segment (DPS), up to 73,000 sea lions may be exposed to aerial surveys, 27,000 to rookery-based activities, and 23,000 to incidental activities. Up to 1,280 could be captured annually, with up to 630 having blood, skin and swab samples collected, 580 hot-branded, and up to 180 blubber and lesion biopsied, tooth and vibrissa removed, be ultrasonically imaged, and subject to stomach intubation or enema. Instruments may be attached on up to 280 per year, and 880 per year may receive a non-permanent tag or mark. Annually in the eastern DPS, up to 26,000 may be exposed to aerial surveys, and 5,000 to incidental activities. Up to 12 could be captured per year, and have blood, skin, blubber, fecal, and culture samples collected, a tooth and vibrissa removed, hot-brand, tag or non-permanent mark applied, and have an instrument attached. NMML requests authorization for up to 10 research-related mortalities of Steller sea lions per year (not to exceed 5 per year in the western DPS). Up to 5,000 harbor seals (Phoca vitulina richardsi) and 15,000 northern fur seals may be disturbed per year incidental to activities in Alaska. Up to 3,000 California sea lions (Zalophus californianus) and 200 harbor seals may be incidentally disturbed per year along the U.S. west coast.

File No. 358-1888: The Alaska Department of Fish and Game (ADF&G), Division of Wildlife Conservation, Juneau, Alaska, requests a 5-year permit to continue investigating the various hypotheses for the decline or lack of recovery of Steller sea lions in Alaska. The research covers a variety of activities including incidental disturbance during aerial surveys (up to 20,000 individuals per year in the eastern DPS), disturbance of animals on rookeries and haulouts during brand resighting surveys (up to 25,000 individuals annually in the eastern DPS and up to 5,000 individuals annually in the western DPS), and incidental to scat collection, capture for instrument attachment, physiological research and sample collection (up to15,000 individuals in the eastern DPS and 2,000 in the western DPS per year). Up to 800 pups would be hot branded per year for long-term demographic and distribution studies. Up to 280 older animals would be captured per year for physiological assessment, with attachment of scientific instruments to investigate foraging ecology and diving behavior on up to 95 per year. ADF&G requests authorization for up to 10 research-related mortalities of Steller sea lions per year (not to exceed 5 per year in the western DPS). Harbor seals, northern fur seals, and California sea lions may be disturbed incidentally during the course of this research due to proximity of isolated individuals to the Steller sea lion study area. Field work will take place during all seasons of the year and throughout the range of Steller sea lions in Alaska (both eastern and western DPS).

File No. 881-1893: The Alaska SeaLife Center (ASLC), Seward, Alaska, requests a 5-year permit to characterize the movements, foraging behavior and habitat-associations of northern fur seal pups during their first winter at sea. ASLC proposes to capture and instrument up to 50 northern fur seal pups annually on the Pribilof Islands and Bogoslof Island. Once captured, pups would be physically restrained and sedated for: blood sampling; measurements of body composition (isotope dilution, bioelectric impedance analysis, and ultrasonic imaging of blubber); taking skin, blubber, and muscle biopsies; collecting fecal loops and culture swabs; collecting vibrissae, hair and nails; attachment of flipper tags and marking fur temporarily; and attachment of scientific instruments and placement of internal stomach temperature transmitters. Up to 200 northern fur seals may be captured at sea in the North Pacific and subject to the same list of procedures as above, with the addition that adult females would undergo ultrasonography of the reproductive tract to determine pregnancy. Up to 5,000 fur seals of either sex and any age may be disturbed annually during approaches to the rookery to capture pups, to read flipper tags, and to check previously attached equipment for damage. When possible, fur seals returning to their natal island would be recaptured in subsequent years to remove instruments and to repeat blood collection and measurements of body composition. The ASLC requests authorization for up to four research-related mortalities of fur seals per year.

File No. 881-1890: The ASLC requests a 5-year permit to conduct population monitoring and studies on health, nutrition, and foraging behavior of free ranging and temporarily captive Steller sea lions. Research would occur in the Gulf of Alaska and the Aleutian Islands and at the ASLC. The purposes of this research are to provide data on pup and juvenile survival, reproductive rates, diet, epidemiology, endocrinology, immunology, virology, physiology, ontogenetic and annual body condition cycles, foraging behavior, and habitat selection. Individuals may be taken by disturbance associated with capture, remote video studies, scat and carcass collection, and mark resighting (14,000 animals annually); capture, restraint and sampling (610 animals annually); and temporary captivity at ASLC with life history transmitter implantation (30 animals annually). Annually, captured sea lions (640 including those in temporary captivity) will undergo morphometrics measurements, blood and tissue collection, digital imaging, hot-branding, scientific instrument attachment, body condition measurement, whisker sampling, metabolic rate measurement, temporary marking, and x-ray exams. The ASLC requests authorization for up to seven research-related mortalities of Steller sea lions per year. The ASLC also requests authorization to collect an unlimited number of carcasses and hard and soft parts of dead Steller sea lions.

File No. 434-1892: The Oregon Department of Fish and Wildlife (ODFW), Corvallis, Oregon, requests a 5-year permit to continue to assess status and monitor trend in Steller sea lion abundance, ecology, and vital rates in the southern extent of the Steller sea lion eastern DPS. Research would occur throughout California, Oregon, and Washington and cover a variety of activities. These activities include incidental disturbance to animals during aerial surveys (500 pups and 1,000 older animals per year), grounds counts and incidental scat collection (2,000 pups and 4,000 older animals per year), as well as captures, sampling, behavioral observations, and monitoring (up to10,000 animals per year). ODFW also proposes to capture and sedate (physically or chemically) up to 200 pups and 10 adults annually for measuring, skin biopsying, flipper tagging or other marking, and hot-branding. In addition to the procedures above, 50 pups and 10 adults annually would have fecal loops and culture swabs collected and 80 pups and 10 adults per year would have scientific instruments attached. ODFW requests authorization for up to 10 research-related mortalities of Steller sea lions per year. Up to 1,000 harbor seals and 5,000 California sea lions may be disturbed annually incidental to this research.

File No. 1049-1886: Kate Wynne, University of Alaska Fairbanks, Kodiak, Alaska, requests a 5-year permit to continue studies on the abundance, distribution, and diet of the western DPS of Steller sea lions. Authority is requested to harass animals for aerial surveys (13,000 individuals per year), scat collection (2,000 individuals per year), and land-based (500 individuals per year) and vessel-based (1,000 individuals per year) brand re-sighting activities. Activities would take place throughout the year; however, rookeries would not be approached in June to minimize disturbance during breeding and pupping season. Research would occur in the western and central Gulf of Alaska.

File No. 1034-1887: Dr. Markus Horning, Oregon State University, Hatfield Marine Science Center, Newport, Oregon, requests a 5-year permit to study condition and health status of juvenile Steller sea lions in the western DPS; and, using satellite-linked Life History Transmitters (LHX), will estimate survival rates, and obtain long-term data on foraging effort and causes of mortality. Over five years, up to 140 juvenile Steller sea lions will be captured, anesthetized, handled and sampled (morphometrics; 3-D photographic imaging; X-ray imaging; ultrasound; deuterium oxide administration; blood, whisker, hair, claw, blubber, and skin sample collections; mucosal swabs; naturally excreted feces), flipper tagged or hot-branded, and external instruments applied. Of those animals, 100 will additionally have internal LHX transmitters surgically implanted. Researchers would implant up to 50 carcasses with the LHX transmitters to assess the effect of the non-independence of two paired tags on the calculation of correction factors. Dr. Horning requests authorization for up to 15 research-related mortalities over five years, not to exceed five in any one year. Dr. Horning also proposes to install remote imaging systems for 3-D photogrammetry at locations in Alaska and Oregon to census animals and monitor body mass, condition, and health trends. Up to 10,500 Steller sea lions may be harassed annually during capture and other activities. California sea lions, harbor seals, and northern elephant seals may also be harassed incidental to activities with Steller sea lions.

File No. 715-1883: The North Pacific Universities Marine Mammal Research Consortium (NPUMMRC), University of British Columbia, Vancouver, B.C., requests a 5-year permit to conduct physiological studies on captive northern fur seals to test the hypothesis that changes in food supply or environmental conditions are inducing a state of nutritional stress that is causing changes in survival or reproductive success. Up to 32 fur seal pups from St. Paul Island, AK, would be captured, restrained, and gender determined. Of those 32, up to 16 female pups would have blood samples taken and a veterinary heath exam performed. Of those 16, up to eight pups would be held in temporary enclosures for up to seven days for further health testing (blood sampling, physical exams). Of those eight, six female pups would be transported to the Vancouver Aquarium, Canada, for long-term physiological and nutritional research. During capture operations, up to 185 fur seals may be incidentally disturbed. The NPUMMRC requests up to one research-related mortality over the duration of the permit. While the actual captures will occur in a single year, the NPUMMRC has requested a 5-year permit to allow for flexibility in logistical coordination of the captures.

File No. 715-1884: The NPUMMRC requests a 5-year permit to continue to study the distribution, life history, physiology, and foraging and behavioral ecology of northern fur seals on the Pribilof Islands and Bogoslof Island. Research activities would occur from July to October, annually, and involve harassment of animals for capture, measuring, flipper tagging, coded wire tagging, and blood, skin, blubber and vibrissae sampling (200 pups and 200 older animals per year). The pups would also be injected with tetracycline and be recaptured for age determination. Older animals would also be anesthetized and have a single post-canine tooth removed for aging. The NPUMMRC also requests to capture, measure, and attach scientific instruments to no more than 30 lactating females annually. An additional five lactating females per year would be processed as above; however, they would not have scientific instruments attached. Incidental disturbance of up to 1,800 pups and 775 older northern fur seals annually, and 100 Steller sea lions per year is requested. The NPUMMRC requests authorization for up to 10 research-related mortalities of northern fur seals per year. The NPUMMRC would also collect measurements, jaw bones, and teeth from subsistence hunted animals to assess body size and annual growth increments of northern fur seals.

File No. 715-1885: The NPUMMRC requests a 5-year permit to continue a long-term research program to test various hypotheses for the decline of Steller sea lions in Alaska. The research would result in disturbance of Steller sea lions by the following activities: behavioral and demographic observations (up to 10,000 individuals in the western DPS and 5,000 in the eastern DPS per year), scat collection (up to 40,000 individuals in the western DPS and 15,000 in the eastern DPS per year), collection of carcasses or parts of carcasses (up to 40,000 individuals in the western DPS and 15,000 in the eastern DPS per year), and aerial/boat surveys and camera maintenance (up to 10,000 individuals in the western DPS and 5,000 in the eastern DPS per year). NPUMMRC requests authorization for up to four research-related mortalities of Steller sea lions per year. Northern fur seals, California sea lions, harbor seals, Northern elephant seals (Mirounga angustirostris), and Killer whales (Orcinus orca) may be disturbed incidental to this research. In conjunction with branding conducted by other permit holders the NPUMMRC would also conduct a 2-year study to assess pain and distress associated with hot-branding of Steller sea lions. The study would use 96 pups per year and follow a 2 x2 design: with and without branding, and with and without a post-operative non-steroidal anti-inflammatory analgesic. Pain response would be measured using respiration rate, cortisol concentrations, body temperature, blood pressure, and using behavioral elements including movements and vocalizations.

File No. 1118-1881: The Aleut Community of St. Paul Island, Tribal Government, Ecosystem Conservation Office, St. Paul Island, Alaska, requests a 5-year permit to fulfill their Biosampling, Disentanglement, and Island Sentinel program responsibilities as established under the co-management agreement between NMFS and the Aleut Community. The Aleut Community of St. Paul Island requests authorization for incidental disturbance of up to 550 northern fur seals per year during the collection of biological samples from dead stranded and subsistence hunted marine mammals. These samples would be exported to researchers studying the decline of northern fur seals. Up to 6,500 northern fur seals may be disturbed during disentanglement events. The Island Sentinel program may result in the disturbance of up to 3,400 northern fur seals per year during haulout and rookery observations, monitoring, and remote camera maintenance. Steller sea lions and harbor seals may be disturbed during the course of any of these activities.

File No. 1119-1882: The Aleut Community of St. George Island, St. George Traditional Council, St. George Island, Alaska, requests a 5-year permit to fulfill their Biosampling, Disentanglement, and Island Sentinel program responsibilities as established under the co-management agreement between NMFS and the Aleut Community. The Aleut Community of St. George Island requests authorization for incidental disturbance of up to 450 northern fur seals per year during the collection of biological samples from dead stranded and subsistence hunted marine mammals. These samples would be exported to researchers studying the decline of northern fur seals. Up to 5,250 northern fur seals may be disturbed during disentanglement events. The Island Sentinel program may result in the disturbance of up to 3,400 northern fur seals per year during haulout and rookery observations, monitoring, and remote camera maintenance. Steller sea lions and harbor seals may be disturbed during the course of any of these activities.

File No. 881-1745: The ASLC requests a 5-year amendment to Permit No. 881-1745 to breed captive Steller sea lions at the ASLC, to produce up to four pups, and conduct studies related to gestation, lactation, and pup growth and development. Permit No. 881-1745, issued March 16, 2006 (59 FR 15387), currently allows studies on three adult (one male, two female) captive Steller sea lions held by the ASLC to investigate stress responses, endocrine and immune system function, and seasonal variations in normal biological parameters such as mass and body composition, and conduct of 'research and development' of external tags and attachments for future deployment on free-ranging animals. The purpose of the proposed amendment is to assess physical, metabolic, hormonal, and immunological changes related to gestation, lactation, and pup growth and development. The breeding part of this study may require the transfer of additional captive adult Steller sea lions from facilities in the U.S., or import from facilities in Canada. Offspring produced would be held at the ASLC for long-term physiological studies, or be transferred or exported to other facilities for permanent holding. During gestation the adult animals would be subject to currently permitted sampling procedures, with additional study-specific testing on the samples themselves. Milk samples would be collected from adult females. Offspring produced would be subject to sedation, anesthesia, physical restraint, morphometric measurements, metabolic measurements, collection of urine and feces, blood sampling, and audio and visual recordings (e.g., audio, photographic, video, digital, thermal, radiographic). Offspring would be trained to encourage voluntarily participation in research activities to minimize the use of physical restraint, sedatives, or anesthetics during sampling. The ASLC requests one research-related mortality of any live-born Steller sea lion during the proposed study. The ASLC proposes that stillborn or spontaneously aborted pups not be considered related to the study or counted against any mortality allowance in their permit.

NMFS is preparing a Programmatic Environmental Impact Statement (PEIS) for Steller Sea Lion and Northern Fur Seal Research to evaluate the potential environmental impacts of awarding grants and issuing permits to facilitate research on these species. Information about the PEIS is available at http://www.nmfs.noaa.gov/pr/permits/eis/steller.htm.

Concurrent with the publication of this notice in the Federal Register, NMFS is forwarding copies of this application to the Marine Mammal Commission and its Committee of Scientific Advisors.

Documents may be reviewed in the following locations:

All Files: Permits, Conservation and Education Division, Office of Protected Resources, NMFS, 1315 East-West Highway, Room 13705, Silver Spring, MD 20910; phone (301)713-2289; fax (301)427-2521; http://www.nmfs.noaa.gov/pr/permits/review.htm;

File Nos. 782-1889 and 434-1892: Northwest Region, NMFS, 7600 Sand Point Way NE, BIN C15700, Bldg. 1, Seattle, WA 98115-0700; phone (206)526-6150; fax (206)526-6426;

All Files except 434-1892: Alaska Region, NMFS, P.O. Box 21668, Juneau, AK 99802-1668; phone (907)586-7221; fax (907)586-7249; and

File Nos 782-1889 and 434-1892: Southwest Region, NMFS, 501 West Ocean Blvd., Suite 4200, Long Beach, CA 90802-4213; phone (562)980-4001; fax (562)980-4018.

Dated: February 12, 2007.
P. Michael Payne,
Chief, Permits, Conservation and Education Division, Office of Protected Resources, National Marine Fisheries Service.

[FR Doc. E7-2689 Filed 2-14-07; 8:45 am]

BILLING CODE 3510-22-S